DEPARTMENT OF ENERGY

Federal Energy Regulatory Commission

[Project No. 14498-001]

Lucid Energy, Inc. and The City of Portland Water Bureau, Conduit 3, LLC; Notice of Transfer of Exemption

1. By letter filed September 2, 2014 and supplemented on October 3, 2014, Lucid Energy, Inc. and The City of Portland Water Bureau informed the Commission that the exemption from licensing for the Conduit 3 Hydroelectric Project, FERC No. 14498, originally issued June 3, 2013,¹ has been transferred from Lucid Energy, Inc. and The City of Portland Water Bureau as co-exemptees to Conduit 3, LLC and The City of Portland Water Bureau as co-exemptees. The new co-exemptee is wholly owned by Lucid Energy, Inc. The proposed project would be located on The City of Portland Water Bureau's Conduit 3 pipeline, an existing 50-inch diameter water supply pipeline, in the City of Portland, Multnomah County, Oregon. The transfer of an exemption does not require Commission approval.

¹ 143 FERC ¶ 62,164, Order Granting Exemption from Licensing (Conduit).

2. Conduit 3, LLC and The City of Portland Water Bureau are now the co-exemptees of the Conduit 3 Hydroelectric Project, FERC No. 14498. All correspondence should be forwarded to: Mr. Greg Semler, President and CEO, Lucid Energy, Inc. 2420 NE Sandy Blvd., Suite 203, Portland, OR 97232.

Dated: October 7, 2014.
Kimberly D. Bose,
Secretary.

[FR Doc. 2014-24344 Filed 10-10-14; 8:45 am]

BILLING CODE 6717-01-P